INTERNATIONAL TRADE COMMISSION

[Investigation No. 731-TA-208 (Second Review)]

Barbed Wire and Barbless Wire Strand From Argentina

Determination

On the basis of the record ¹ developed in the subject five-year review, the United States International Trade Commission (Commission) determines, pursuant to section 751(c) of the Tariff Act of 1930 (19 U.S.C. 1675(c)) (the Act), that revocation of the antidumping duty order on barbed wire and barbless wire strand from Argentina would be likely to lead to continuation or recurrence of material injury to an industry in the United States within a reasonably foreseeable time.²

¹ The record is defined in sec. 207.2(f) of the Commission's Rules of Practice and Procedure (19 CFR 207.2(f)).

² Vice Chairman Deanna Tanner Okun and Commissioner Daniel R. Pearson dissenting.

Background

The Commission instituted this review on April 1, 2004 (69 FR 17226), and determined on August 5, 2004, that it would conduct an expedited review (69 FR 47404). The Commission transmitted its determination in this review to the Secretary of Commerce on August 30, 2004. The views of the Commission are contained in USITC Publication 3718 (August 2004), entitled Barbed Wire and Barbless Wire Strand From Argentina: Investigation No. 731-TA-208 (Second Review).

Issued: August 30, 2004.
By order of the Commission.
Marilyn R. Abbott,
Secretary to the Commission.

[FR Doc. 04-20079 Filed 9-2-04; 8:45 am]

BILLING CODE 7020-02-P